DEPARTMENT OF TRANSPORTATION

Federal Aviation Administration

[Docket No. FAA-2020-0430]

FAA Advisory Circular 142-1, Standardized Curricula Delivered by Part 142 Training Centers

AGENCY: Federal Aviation Administration (FAA), Department of Transportation (DOT).

ACTION: Notice of availability of agency guidance.

SUMMARY: This notice announces the availability of FAA Advisory Circular (AC) 142-1, Standardized Curricula Delivered by Part 142 Training Centers. The AC introduces the standardized curriculum concept for training provided by part 142 training centers and describes the associated benefits of this voluntary approach. This AC provides guidance to part 142 training centers on how to obtain approval to deliver a standardized curriculum to part 135 operators, including guidance on how a part 142 training center may qualify its personnel as instructors and check pilots under part 135. This AC also provides guidance on how a part 135 operator may obtain approval to use a standardized curriculum as part of its training program. Voluntary use of standardized curricula for part 135 training promotes safety and increases administrative efficiency for industry. Based on these benefits, the FAA believes that most part 135 training provided by part 142 training centers will occur through standardized curricula after implementation.

DATES: The guidance in AC 142-1 became effective April 27, 2020.

FOR FURTHER INFORMATION CONTACT: Mary Thompson, Flight Standards, Air Transportation Division, Policy Integration Branch (AFS-270), Federal Aviation Administration, 800 Independence Avenue SW, Washington, DC 20591; 404-904-2995, Mary.Thompson@faa.gov.

SUPPLEMENTARY INFORMATION: The standardized curriculum concept provides a means to standardize curricula offered by part 142 training centers to part 135 operators. Under the standardized curriculum concept, the Aviation Rulemaking Advisory Committee will use formalized stakeholder input to develop and recommend standardized curricula for each aircraft fleet to the FAA. The FAA will review the recommendations and, if acceptable, publish the standardized curricula at a national level. The standardized curriculum concept aims to provide an efficient means for approving training curricula offered by part 142 training centers while increasing the consistency of training, testing, and checking delivered to part 135 operators. The standardized curriculum concept supports the overarching goals to enhance training and checking and promote safer operational practices and is consistent with applicable regulations. AC 142-1 may be found at https://www.faa.gov/pilots/training/standardized_curriculum/.

Issued in Washington, DC.
Robert Carty,
Deputy Executive Director, Flight Standards Service.

[FR Doc. 2020-11894 Filed 6-1-20; 8:45 am]

BILLING CODE 4910-13-P